DEPARTMENT OF JUSTICE

Office of Justice Programs

[OJP (BJS)-1316]

Continuation of Federal Justice Statistics Program

AGENCY: Bureau of Justice Statistics, Office of Justice Programs, Justice.

ACTION: Solicitation for award of cooperative agreement.

SUMMARY: The purpose of this notice is to announce a public solicitation for the continuation of the Bureau of Justice Statistics' (BJS) Federal Justice Statistics Program (FJSP). The FJSP serves as the national resource for data describing the processing of criminal cases in the Federal criminal justice system. Under this program, data generated by Federal criminal justice agencies are collected, maintained, analyzed, and archived. Data are also linked across agencies to permit more complex analyses of Federal criminal justice issues. Regular annual reports and special topical reports are prepared that describe the Federal criminal justice system, Federal defendants and offenses, and other special issues of interest. In addition, special tabulations are prepared, pursuant to BJS direction, in response to requests from government officials. The project to be funded under the proposed cooperative agreement will continue the program's current activities.

DATES: Proposals must be postmarked on, or before, July 20, 2001. Awards will be made by September 30, 2001. Project activities will commence on October 1, 2001.

ADDRESSES: Proposals should be mailed to: Applications Coordinator, Bureau of Justice Statistics, 810 7th Street, NW, Washington, DC 20531.

FOR FURTHER INFORMATION CONTACT: John Scalia, Program Manager, Federal Justice Statistics Program, Bureau of Justice Statistics. Phone: (202) 616-3276. E-mail: John.Scalia@usdoj.gov.

SUPPLEMENTARY INFORMATION:

Background

The Bureau of Justice Statistics Federal Justice Statistics Program (FJSP) was initiated in 1982 to serve as a central resource for information describing the processing of Federal criminal defendants and characteristics of those defendants. The program collects data from different components of the Federal criminal justice system and tracks the progress of suspects from investigation through prosecution, adjudication, sentencing, and corrections. The program represents the primary BJS effort describing the Federal criminal justice system and responds directly to the legislative authorization that BJS “collect, analyze, and disseminate comprehensive Federal justice transaction statistics (including statistics on issues of Federal justice interest such as public fraud and high technology crime)” as set forth in 42 U.S.C. 3732(c)(15).

In keeping with the original program plan which was designed to minimize data collection costs, no original data collection is supported under this program. Data are obtained from operational Federal agencies including the U.S. Marshals Service, the Drug Enforcement Administration, the Federal Bureau of Investigation, the Executive Office for the United States Attorneys, the Administrative Office of the United States Courts, the Bureau of Prisons, and the United States Sentencing Commission. In order to trace the flow of cases from one stage to another and to supplement any individual agency's data, computer matching techniques have been developed that permit the linking of data obtained from different sources. The linking of these data permit more complex and detailed analysis of particular issues.

Throughout the history of the FJSP, a regular series of reports has been produced. These reports include the annual Compendium of Federal Justice Statistics (available on the Internet at http://www.ojp.usdoj.gov/bjs/abstract/cfjs99.htm) which describes, in detail, offenders processed at each stage of the Federal criminal justice system for a particular year, the annual Federal Criminal Case Processing report (available on the Internet at http://www.ojp.usdoj.gov/bjs/abstract/fccp99.htm) which present key statistics for the reporting year and trend for the past several years, and a series of Special Reports addressing specific aspects of the Federal criminal justice system, specific offenses, or other special issues of interest. Recent Special Reports include: Federal Criminal Appeals, 1999, with trends 1985-99 (available on the Internet at http://www.ojp.usdoj.gov/bjs/fca99.htm), Offenders Returning to Federal Prison, 1986-97 (available on the Internet at http://www.ojp.usdoj.gov/bjs/abstract/orfp97.htm), and Federal Firearm Offenders, 1992-98 (available on the Internet at http://www.ojp.usdoj.gov/bjs/abstract/ffo98.htm). In addition, the program serves as the primary source of information for other BJS statistical series that describe individuals in the Federal criminal justice system; program staff have also responded to ad hoc BJS requests for specific data tabulations and analyses from public officials and private citizens.

Objectives

The purpose of this award is to support the continuation of the Federal Justice Statistics Program. The recipient of funds will serve as the Federal Justice Statistics Resource Center whereby the recipient will continue to collect, maintain, and archive data from Federal justice agencies, produce annual reports (the Compendium of Federal Justice Statistics and Federal Criminal Case Processing), and topical special reports. Any Special Reports prepared by the recipient will be prepared under the direction of BJS staff. In addition, BJS staff may also initiate Special Reports. The recipient will be expected to assist BJS staff with Special Reports by providing the necessary data for analysis and, when requested, assisting in the preparation of data tabulations and reviewing the methodology used to analyze the data.

Type of Assistance

Assistance will be made available under a cooperative agreement. Awards will be made for a period of 12 months with an option for two additional continuation years conditional upon the availability of funds and the quality of the initial performance and products. Costs are estimated at not to exceed $650,000 for the initial 12-month period. Funding for subsequent years may include reasonable increases for cost-of-living and changes in scope of work, where applicable.

Statutory Authority

The cooperative agreement to be awarded pursuant to this solicitation will be funded by the Bureau of Justice Statistics consistent with its mandate as set forth in 42 U.S.C. 3732.

Eligibility Requirements

Both for-profit and nonprofit organizations may apply for funds. Consistent with Office of Justice Programs fiscal requirements, no fees may be charged against this project by profit-making organizations.

Scope of Work

The objective of the proposed program is to continue basic activities initiated under the ongoing BJS Federal Justice Statistics Program. Specifically, the recipient of funds will serve as the Federal Justice Statistics Resource Center. The Resource Center will:

• Maintain and expand the Federal Justice Statistics Program Database. This will involve the collection, processing, and maintenance of data provided by Federal agencies participating in the program. The agencies currently participating in the program are: the U.S. Marshals Service, the Drug Enforcement Administration, the Federal Bureau of Investigation, the Executive Office for the United States Attorneys, the Administrative Office of the United States Courts, the Bureau of Prisons, and the United States Sentencing Commission. (In addition to providing data describing the Federal courts' criminal docket, the Administrative Office also provides data describing the activities of the Federal pretrial services agencies and the Federal Probation and Supervision Service. The Federal Judicial Center has provided data describing the Federal courts' appellate docket.) The recipient should attempt to expand the program to include other Federal law enforcement agencies. The recipient will also be responsible for processing data to meet uniform classification categories and for linking data to permit analysis of data obtained from different sources.

• Prepare tapes and related documentation for archiving in the national archive maintained by BJS. The public use data tapes of the source data shall conform to BJS standards for submission to the National Archive of Criminal Justice Data at the University of Michigan. In addition, the recipient will prepare a set of standard analysis data files from each agency's source data for each fiscal year. These standard analysis data files will describe a particular cohort of defendants and will include all variables included in the source data and all variables created for the Compendium of Federal Justice Statistics. These standard analysis files will be included on a CD-ROM to be produced and distributed by BJS. The recipient will document each of the standard analysis data files and all programs used to create BJS reports. Such documentation, to the extent possible, will be maintained in an electronic database from which users can query variables of interest. This electronic data dictionary will also be included on the CD-ROM prepared by BJS. In addition, the recipient will document the methodology used to produce the Compendium of Federal Justice Statistics, including the production of the standard analysis data files.

• Prepare the Compendium of Federal Justice Statistics and the Federal Criminal Case Processing report and submit both text and tables in camera-ready format for each Federal fiscal year.

• Prepare BJS Special Reports, data tabulations, analyses, data sets, and other data manipulations in response to BJS requests. Any Special Reports proposed by the recipient will be designed in coordination with BJS. BJS will approve all Special Report topics proposed by the recipient.

• Provide BJS with electronic access to the Federal Justice Statistics Resource Center (including all source data, standard analysis data files, and software used to produce BJS reports) and computing resources, as necessary. In addition, the recipient must provide BJS staff with daily access to the standard analysis data files (for the most recent reporting period available) in a form in which variables name and values correspond to those included in the FJSP electronic data dictionary.

• Provide Internet access to the Federal Justice Statistics Resource Center. The recipient will provide direct access via the Internet to all FJSP data files from 1994 and onward and the electronic data dictionary. In addition, the recipient will provide Internet users with a World Wide Web-accessible query system for the Federal Justice Statistics Resource Center. Users must be provided with the capability of performing queries of the FJSP data bases to extract basic information describing individuals processed in the Federal criminal justice system. Statistics describing suspects and offenders will also be displayed by Federal judicial district consistent with any restrictions imposed by Federal agencies providing data. The Federal Justice Statistics Resource Center is currently located on the Internet at http://fjsrc.urban.org. All products developed for the Internet must be compliant with the accessibility standards and regulations promulgated pursuant to 29 U.S.C. § 794d.

Award Process

Proposals should describe, in appropriate detail, the procedures to be undertaken in furtherance of each of the activities described under the Scope of Work. Information provided should focus on activities to be conducted during the initial 12-month period but should also include a more general discussion of three-year objectives for the program. Information on staffing levels and qualifications should be included for each task and descriptions of experience relevant to the project should be included. Resumes of the proposed project director and key staff should be included in the proposal.

Applications will be competitively reviewed by BJS. Final authority to enter into a cooperative agreement is reserved for the Director, BJS, or his designee, who may, in his discretion, determine that none of the applications shall be funded.

Applications will be evaluated on the overall extent to which they respond to criminal justice priorities, conform to the goals of the Federal Justice Statistics Program, and appear to be fiscally feasible and efficient. Applicants will be evaluated on the basis of:

• Knowledge of, and experience in, working with different components of the criminal justice system with particular emphasis on knowledge of operational, management, and statistical data collected and maintained by various Federal criminal justice components;

• Statistical expertise in the area of data analysis, data linkage, and research;

• Experience in the application of statistical data to the analysis of criminal justice issues;

• Demonstrated ability to prepare high quality statistical reports;

• Availability of qualified professional and support staff and of suitable equipment for data processing and data manipulation;

• Demonstrated fiscal, management, and organizational capability suitable for providing sound program direction for this multi-faced effort;

• Demonstrated ability to design and maintain interactive sites on the World Wide Web; and

• Reasonableness of estimated costs for the total project and for individual cost categories.

Application Process

An original and five (5) copies of the proposal and all application materials must be submitted to BJS. All applicants are required to submit:

• Standard Form 424, Application for Federal Assistance;

• Budget Detail Worksheet (which replaced the SF 424A, Budget Information);

• OJP Form 4000/3 (Rev. 1-93), Assurances;

• OJP Form 4061/6 Certification Regarding Lobbying; Debarment, Suspension, and Other Responsibility Matters; and Drug-Free Workplace Requirements;

• A privacy certificate describing procedures for complying with Federal regulations relating to the confidentiality of information identifiable to a private person; and

• The BJS Screening Sheet for Protection of Human Subjects.

If appropriate, applicants must also complete and submit Standard Form LLL, Disclosure of Lobbying Activities. Applicants who have not previously received Federal funds from the Office of Justice Programs must also submit OJP Form 7210/1 (Rev. 1-93), Accounting System and Financial Capability Questionnaire. Detailed instructions for applicants of Federal Assistance and copies of all forms are available on the Internet at http://www.ojp.usdoj.gov/bjs/apply.htm.

Dated: April 27, 2001.
Lawrence A. Greenfeld,
Acting Director, Bureau of Justice Statistics.

[FR Doc. 01-11076 Filed 6-1-01; 8:45 am]

BILLING CODE 4410-18-P